DEPARTMENT OF VETERANS AFFAIRS

[OMB Control No. 2900-0788]

Agency Information Collection (Description of Materials) Activity under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; and it includes the actual data collection instrument.

DATES: Comments must be submitted on or before August 12, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0788” in any correspondence. During the comment period, comments may be viewed online through FDMS.

FOR FURTHER INFORMATION CONTACT: Crystal Rennie, Enterprise Records Service (005R1B), Department of Veterans Affairs, 810 Vermont Avenue NW, Washington, DC 20420, (202) 632-7492 or email crystal.rennie@va.gov. Please refer to “OMB Control No. 2900-0788” in any correspondence.

SUPPLEMENTARY INFORMATION:

Title: Description of Materials, VA Form 26-1852.

OMB Control Number: 2900-0788.

Type of Review: Revision of a currently approved collection.

Abstract: VA Form 26-1852 is used to document material used in the construction of a dwelling or specifically adapted housing project. VA appraiser's will use the information collected to establish the value and/or cost of adaptations for the property before it is constructed.

An agency may not conduct or sponsor, and a person is not required to respond to a collection of information unless it displays a currently valid OMB control number. The Federal Register Notice with a 60-day comment period soliciting comments on this collection of information was published at 80 FR 03067 on February 17, 2015.

Affected Public: Individuals or households.

Estimated Annual Burden: 1,800 hours.

Estimated Average Burden Per Respondent: 30 minutes.

Frequency of Response: One-time.

Estimated Number of Respondents: 3,600.

By direction of the Secretary.
Kathleen M. Manwell,
VA Privacy Service, Office of Privacy and Records Management, Department of Veterans Affairs.

[FR Doc. 2015-16947 Filed 7-10-15; 8:45 am]

BILLING CODE 8320-01-P